DEPARTMENT OF TRANSPORTATION

Federal Highway Administration

Environmental Impact Statement, Riverside County, California

AGENCY: Federal Highway Administration (FHWA), Department of Transportation (DOT).

ACTION: Notice of Intent.

SUMMARY: The Federal Highway Administration (FHWA), as lead agency, in cooperation with the Riverside County Transportation Commission (RCTC) and the California Department of Transportation intend to prepare an Environmental Impact Statement (EIS) in accordance with the National Environmental Policy Act of 1969 (NEPA). The EIS will study alternatives to implement transportation corridor improvements in western Riverside County, specifically improvements for the Winchester to Temecula (North to South) transportation corridor.

Pursuant to 40 CFR 1508.28, FHWA intends to tier the EIS for this project. The Tier 1 EIS to be prepared pursuant to this notice will be used to support a route location decision. A future Tier 2 EIS will be prepared to present the design features and construction level of detail for the evaluation of alternatives within the preferred route.

FOR FURTHER INFORMATION CONTACT: Mary Ann Rondinella, Environmental Specialist, Federal Highway Administration, 980 Ninth Street, Suite 400, Sacramento, CA 95814-2724. Telephone: (916) 498-5040. Fax: (916) 498-5008. Cathy Bechtel, RCTC, 3560 University Avenue, Suite 100, Riverside, CA 92501. Telephone: (909) 787-7141. Fax: (909) 787-7920.

SUPPLEMENTARY INFORMATION: The Winchester to Temecula (North to south) transportation corridor is part of the Community and Environmental Transportation Acceptability Process (CETAP) being undertaken jointly by the county of Riverside and the RCTC. CETAP is one component of the Riverside County Integrated Project (RCIP), which also includes a new Riverside County General Plan and a Multi-Species Habitat Conservation Plan (MSHCP) for western Riverside County. According to current projections by the southern California Association of Governments (SCAG), population and employment are expected to more than double in western Riverside County within the next 20 years. Due to the fast pace of development, opportunities are being lost to preserve land for habitat conservation and regional transportation facilities. These facilities are intended to address the mobility needs for both people and goods, with the potential for incorporating the needs for highways, transit, and utilities, where appropriate.

In July, 2000, the RCTC Board of Directors and the Riverside County Board of Supervisors directed the initiation of engineering and environmental studies for two corridors: Winchester to Temecula (North to south) and Hemet to Corona/Lake Elsinore (East to West), which will move forward in parallel. A separate Notice of Intent is being issued for the Hemet to Corona/Lake Elsinore (East to West) Corridor.

The objective of the proposed EIS is to provide environmental analysis of a multimodal transportation facility within the Winchester to Temecula Corridor to allow agencies to proceed with the preservation of right-of-way for a preferred alternative. One goal of the RCIP process is to preserve the rights-of-way needed for the transportation facilities while minimizing potential impacts on habitat, aquatic resources, communities, landowners, and other elements of the environment.

Additional information regarding the Riverside County integrated Project is also available on the Internet at www.rcip.org.

Public scoping meetings will be held. The public will be notified through local newspapers, postings in public places, and through other public notification methods. The notices will identify the place, dates, and time of the meetings.

To ensure that the full range of issues related to the proposed improvements are addressed and all significant issues identified, comments and suggestions are invited from all interested parties. Comments or questions concerning this tiered EIS should be directed to the FHWA and/or RCTC at the addresses provided above.

(Catalog of Federal Assistance Program Number 20.205, Highway Planning, and Construction. The regulations implementing Executive Order 12372 regarding intergovernmental consultation on Federal programs and activities apply to this program.)
Issued on: July 23, 2001.
Jeffrey W. Kolb,
Team Leader, Program Delivery Team-South Sacramento, California.

[FR Doc. 01-19343 Filed 8-1-01; 8:45 am]

BILLING CODE 4910-22-M